DEPARTMENT OF ENERGY

Federal Energy Regulatory Commission

[Docket No. ER02-581-000]

New England Power Pool; Notice of Filing

December 26, 2001.

Take notice that on December 21, 2001, the New England Power Pool (NEPOOL) Participants Committee filed for acceptance materials (1) to implement alternative payment and financial assurance arrangements with Enron power Marketing, Inc. (EPMI), Enron energy Marketing Corp. (EEMC), and Enron Eneergy Service, Inc. (EESI) with respect to transactions occurring on and after December 21, 2001 and (2) to terminate immediately and automatically the participation by EPMI, EEMC and EESI, as the case may be, as members in NEPOOL should there be a failure to make a required payment under the filed arrangements. Those arrangements are defined in a term sheet that will be reflected in definitive Standstill Agreements which NEPOOL states will be submitted to the Commission. A December 21, 2001 effective date was requested for the arrangements.

The Participants Committee states that copies of these materials were sent to the New England state governors and regulatory commissions and the Participants in NEPOOOL.

Any person desiring to be heard or to protest such filing should file a motion to intervene or protest with the Federal Energy Regulatory Commission, 888 First Street, NE., Washington, DC 20426, in accordance with rules 211 and 214 of the Commission's rules of practice and procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the Commission's Web site at http://www.ferc.gov using the “RIMS” link, select “Docket#” and follow the instructions (call 202-208-2222 for assistance). Comments, protests and interventions may be filed electronically via the internet in lieu of paper. See, 18 CFR 385.2001(a)(1)(iii) and the instructions on the Commission's Web site under the “e-filing” link.

Comment Date: January 4, 2002.

Linwood A. Watson, Jr.,
Acting Secretary.

[FR Doc. 01-32184 Filed 12-31-01; 8:45 am]

BILLING CODE 6717-01-P